DEPARTMENT OF LABOR

Employment and Training Administration

[NAFTA-4259]

Facemate Corp., Somersworth, NH; Notice of Termination of Investigation

Pursuant to Title V of the North American Free Trade Agreement Implementation Act (Pub. L. 103-182) concerning transitional adjustment assistance, hereinafter called NAFTA-TAA and in accordance with section 250(a), subchapter D, chapter 2, Title II, of the Trade Act of 1974, as amended (19 U.S.C. 2331), an investigation was initiated on October 24, 2000, in response to a petition filed on behalf of workers at Facemate Corporation, Somersworth, New Hampshire. Workers produce cotton flannel cloth.

The petitioner has requested that the petition be withdrawn. Consequently, further investigation in this case would serve no purpose, and the investigation has been terminated.

Signed in Washington, DC this 12th day of January, 2001.
Linda G. Poole,
Certifying Officer, Division of Trade Adjustment Assistance.

[FR Doc. 01-3307 Filed 2-7-01; 8:45 am]

BILLING CODE 4510-30-M